NATIONAL COUNCIL ON DISABILITY

Youth Advisory Committee Meeting (Conference Call)

Time and Date: 12 p.m. e.s.t. January 23, 2004.

Place: National Council on Disability, 1331 F Street, NW., Suite 850, Washington, DC, 20004.

Agency: National Council on Disability (NCD).

Status: All parts of this conference call will be open to the public. Those interested in participating in this conference call should contact the appropriate staff member listed below.

Agenda: Roll call, announcements, reports, new business, adjournment.

Contact Person For More Information: Geraldine Drake Hawkins, Ph.D., Program Analyst, National Council on Disability, 1331 F Street, NW., Suite 850, Washington, DC 20004; 202-272-2004 (voice), 202-272-2074 (TTY), 202-272-2022 (fax), ghawkins@ncd.gov (e-mail).

Youth Advisory Committee Mission: The purpose of NCD's Youth Advisory Committee is to provide input into NCD activities consistent with the values and goals of the Americans with Disabilities Act.

Dated: December 4, 2003.
Ethel D. Briggs,
Executive Director.

[FR Doc. 03-30493 Filed 12-9-03; 8:45 am]

BILLING CODE 6820-MA-M